DEPARTMENT OF ENERGY

Hydrogen Technical Advisory Panel

AGENCY: Department of Energy.

ACTION: Notice of open meeting.

SUMMARY: This notice announces a meeting of the Hydrogen Technical Advisory Panel (HTAP). Federal Advisory Committee Act (Public Law No. 92-463, 86 Stat. 770, as amended), requires that public notice of these meetings be announced in the Federal Register.

DATES: Monday, April 16, 2001, 2:00 P.M.-6:00 P.M.;Tuesday, April 17, 2001, 8:00 A.M.-12:15 P.M.

ADDRESSES: Hilton Baltimore & Towers, 20 West Baltimore Street, Baltimore, MD 21201; Telephone: 410-539-8400.

FOR FURTHER INFORMATION CONTACT: Neil Rossmeissl, Designated Federal Officer, Hydrogen Program Manager, EE-15, Office of Power Technologies, Department of Energy, Washington, D.C. 20585. Telephone: 202-586-8668.

SUPPLEMENTARY INFORMATION:

Purpose of the Meeting

This is the Spring 2001 meeting of HTAP that was originally scheduled for March 5 and March 6 and was canceled due to weather conditions.

The major purpose of this meeting will be to hold a discussion on Hydrogen and the National Energy Agenda.

Monday, April 16, 2001

2:00 PM Welcome and Introduction of New Members— D. Nahmias

2:15 The National Energy Agenda—N. Rossmeissl

2:45 The National Energy Agenda—HTAPs Role—D. Nahmias/Panel

3:15 The National Energy Agenda—Program Priorities—J. Ohi & C. Padro

4:00 Break

4:20 Federal Agency Coordination—N. Rossmeissl

5:00 Public Comments—Audience

6:00 Adjourn

6:30 Reception (Open to the Public)

Tuesday, April 17, 2001

8:00 AM Welcome, Order of Business—D. Nahmias

8:15 National Energy Agenda Panel—Recommendations for the Future

9:45 Break

10:00 Hydrogen Future Act Reauthorization-Discussion—H. Chum

11:00 Public Comments—Audience

11:30 Election of new Chairperson

12:15 PM Adjourn

Public Participation: This meeting is open to the public. Written statements may be filed with the Committee either before or after the meeting. Individuals who wish to make oral statements pertaining to agenda items should contact Mr. Neil Rossmeissl's office at the address or telephone number listed above. Requests must be received 5 days prior to the meeting and reasonable provision will be made to include the presentations in the agenda. The Designated Federal Officer is empowered to conduct the meeting in a fashion that will facilitate the orderly conduct of business. Each individual wishing to make public comment will be provided a maximum of 5 minutes to present their comments.

Minutes: The minutes of this meeting will be available for public review and copying at the Freedom of Information Public Reading Room, 1E-190, Forrestal Building, 1000 Independence Avenue, S.W., Washington, DC 20585, between 9:00 A.M. and 4:00 P.M., Monday through Friday, except Federal Holidays. Minutes will also be available by writing to Neil Rossmeissl, Department of Energy, 1000 Independence Avenue, S.W., Washington, DC 20585, or by calling (202) 586-8668.

Issued at Washington, DC on March 27, 2001.
Rachel Samuel,
Deputy Advisory Committee Management Officer.

[FR Doc. 01-8003 Filed 3-30-01; 8:45 am]

BILLING CODE 6450-01-P